DEPARTMENT OF THE INTERIOR

Bureau of Land Management

[LLNV952000 L14200000.BJ0000 241A; 13-08807; MO #4500073906; TAS: 15X1109]

Filing of Plats of Survey; NV

AGENCY: Bureau of Land Management, Interior.

ACTION: Notice.

SUMMARY: The purpose of this notice is to inform the public and interested State and local government officials of the filing of Plats of Survey in Nevada.

DATES: Effective Dates: Unless otherwise stated filing is effective at 10:00 a.m. on the dates indicated below.

FOR FURTHER INFORMATION CONTACT: Michael O. Harmening, Chief, Branch of Geographic Sciences, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION:

1. The Plat of Survey of the following described lands was officially filed at the Bureau of Land Management (BLM) Nevada State Office, Reno, Nevada on August 27, 2014:

The plat, in 3 sheets, representing the dependent resurvey of a portion of the east (Humboldt River Guide Meridian), west and north boundaries and a portion of the subdivisional lines and the subdivision of certain sections, Township 22 North, Range 35 East, Mount Diablo Meridian, Nevada, under Group No. 916, was accepted August 25, 2014. This survey was executed to meet certain administrative needs of the BLM.

2. The Plat of Survey of the following described lands was officially filed at the Bureau of Land Management (BLM) Nevada State Office, Reno, Nevada on September 29, 2014:

The plat, in 4 sheets, representing the dependent resurvey of the east boundary (Humboldt River Guide Meridian), a portion of the north boundary, a portion of the subdivisional lines and a portion of Mineral Survey No. 5095 and the subdivision of certain sections, Township 23 North, Range 35 East, Mount Diablo Meridian, Nevada, under Group No. 916, was accepted September 25, 2014. This survey was executed to meet certain administrative needs of the BLM.

3. The Plat of Survey of the following described lands was officially filed at the Bureau of Land Management (BLM) Nevada State Office, Reno, Nevada, on September 30, 2014:

The plat, in 1 sheet, representing the dependent resurvey of the Fifth Standard Parallel North through a portion of Range 50 East, a portion of the south boundary and a portion of the subdivisional lines, Township 25 North, Range 50 East, Mount Diablo Meridian, Nevada, under Group No. 924, was accepted September 29, 2014. This survey was executed to meet certain administrative needs of the BLM and to locate specific federal interest lands for Barrick Gold Exploration, Inc.

4. The Plat of Survey of the following described lands was officially filed at the Bureau of Land Management (BLM) Nevada State Office, Reno, Nevada, on September 30, 2014:

The plat, in 1 sheet, representing the dependent resurvey of the Fifth Standard Parallel North through a portion of Range 51 East, the west boundary and a portion of the subdivisional lines, Township 25 North, Range 51 East, Mount Diablo Meridian, Nevada, under Group No. 924, was accepted September 29, 2014. This survey was executed to meet certain administrative needs of the BLM and to locate specific federal interest lands for Barrick Gold Exploration, Inc.

The surveys listed above are now the basic record for describing the lands for all authorized purposes. These surveys have been placed in the open files in the BLM Nevada State Office and are available to the public as a matter of information. Copies of the surveys and related field notes may be furnished to the public upon payment of the appropriate fees.

Dated: November 4, 2014.
Michael O. Harmening,
Chief Cadastral Surveyor, Nevada.

[FR Doc. 2014-27107 Filed 11-14-14; 8:45 am]

BILLING CODE 4310-HC-P